DEPARTMENT OF THE INTERIOR

Fish and Wildlife Service

[FWS-R6-ES-2015-N112]; [FXES11130600000-156-FF06E00000]

Endangered and Threatened Wildlife and Plants; Draft Recovery Plan for the Salt Creek Tiger Beetle

AGENCY: Fish and Wildlife Service, Interior.

ACTION: Notice of document availability for review and comment.

SUMMARY: The U.S. Fish and Wildlife Service (Service) announces the availability of a draft recovery plan for the Salt Creek Tiger Beetle. This species is federally listed as endangered under the Endangered Species Act of 1973, as amended (Act). The Service solicits review and comment from the public on this draft plan.

DATES: Comments on the draft recovery plan must be received on or before September 14, 2015.

ADDRESSES: Copies of the draft recovery plan are available on request from the U.S. Fish and Wildlife Service, Nebraska Ecological Services Field Office, 9325 South Alda Road, Wood River, Nebraska 68883; telephone 308-382-6468. Submit comments on the draft recovery plan to the Project Leader at this same address. An electronic copy of the draft recovery plan is available at http://www.fws.gov/endangered/species/recovery-plans.html.

FOR FURTHER INFORMATION CONTACT: Eliza Hines, Project Leader, at the above address, or telephone 308-382-6468.

SUPPLEMENTARY INFORMATION: The Service announces the availability of a draft recovery plan for the Salt Creek Tiger Beetle (Cicindela nevadica lincolniana). This subspecies is federally listed as endangered under the Endangered Species Act of 1973, as amended (16 U.S.C. 1531 et seq.; Act). The Service solicits review and comment from the public on this draft plan.

Background

Restoring an endangered or threatened animal or plant to the point where it is again a viable, secure member of its ecosystem is a primary goal of the Service's endangered species program. To help guide the recovery effort, the Service prepares recovery plans for the federally listed species where a plan will promote the conservation of the species. Recovery plans describe site-specific actions necessary for the conservation of the species; establish objective, measurable criteria which, when met, would result in a determination that the species no longer needs the protection of the Act; and provide estimates of the time and cost for implementing the needed recovery measures.

The Act requires recovery plans for listed species, unless such a plan would not promote the conservation of a particular species. This is the first draft recovery plan for the Salt Creek tiger beetle. The Service will consider all information received during a public comment period, including peer review, when preparing a final recovery plan. We will summarize and respond to the issues raised by the public and peer reviewers in an appendix to the approved recovery plan.

The Salt Creek tiger beetle was listed as a federal endangered subspecies on November 7, 2005 (70 FR 58335, October 6, 2005). This subspecies is currently limited to Lancaster County, Nebraska. Critical habitat was established in 2010 and revised in 2013 and 2014. Our recovery strategy is to establish metapopulations in multiple recovery areas. Accomplishing this strategy requires acquisition of land or conservation easements, focused habitat restoration and management projects, and reintroductions.

Request for Public Comments

The Service solicits public comments on the draft recovery plan. All comments received by the date specified above in DATES will be considered prior to approval of the plan. Written comments and materials regarding the plan should be addressed to the Project Leader (see ADDRESSES). Comments and materials received will be available, by appointment, for public inspection during normal business hours at the address under ADDRESSES. All public comment information provided to the Service becomes part of the official public record. If public comments are requested under the Freedom of Information Act by a private citizen or organization, the Service may provide copies of public comments.

Authority

The authority for this action is section 4(f) of the Endangered Species Act, 16 U.S.C. 1533(f).

Dated: May 29, 2015.
Matt Hogan,
Deputy Regional Director.

[FR Doc. 2015-17409 Filed 7-15-15; 8:45 am]

BILLING CODE 4310-55-P